NATIONAL SCIENCE FOUNDATION

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Tuesday, February 4, 2020, from 8:30 a.m. to 4:30 p.m., and Wednesday, February 5, 2020 from 9:00 a.m. to 3:30 p.m. EST.

PLACE: The morning meeting on Tuesday, February 4, 2020, will be held in the Eisenhower Executive Office Building, 1650 Pennsylvania Avenue NW, Washington, DC 20502, Room 350 in conjunction with the members of the President's Advisory Council on Science and Technology (PCAST). Individuals from the public who wish to attend this session must register using the following email address: PCAST@ostp.eop.gov. Please note that public seating for this meeting is limited and is available on a first-come, first-served basis.

The remaining meetings in the afternoon of February 4, and on February 5, 2020, will be held at the NSF headquarters, 2415 Eisenhower Avenue, Alexandria, VA 22314. These meetings are held in the boardroom on the 2nd floor. The public may observe public meetings held in the NSF boardroom. All visitors must contact the Board Office (call 703-292-7000 or send an email to nationalsciencebrd@nsf.gov) at least 24 hours prior to the meeting and provide your name and organizational affiliation. Visitors must report to the NSF visitor's desk in the building lobby to receive a visitor's badge.

STATUS: Some of these meetings will be open to the public. Others will be closed to the public. See full description below.

MATTERS TO BE CONSIDERED:

Tuesday, February 4, 2020

Plenary Board Meeting (at Eisenhower Executive Office Building)

Open Session: 8:30 a.m.-12:30 p.m.

• Presentations and Discussion of the new NSB Science and Engineering Indicators Report and Vision 2030 Project

• PCAST Subcommittee Discussions Led by Subcommittee Chairs and NSB Liaisons

• Open Discussion between PCAST and NSB Members

• Public Comment Period

• Summary, Next Meeting, and Adjournment

Plenary Board Meeting (at NSF Headquarters)

Open Session: 2:00-3:30 p.m.

• NSB Chair's Welcome

• NSF Director's Remarks

• NSF 2026 Idea Machine Panel

• NSB Chair's Remarks and Summary of Activities

Committee on Awards and Facilities (A&F)

Closed session: 3:30-4:30 p.m.

• Committee Chair's Remarks

• Approval of Prior Closed Minutes

• Action Item: High Luminosity Upgrades to the ATLAS and CMS Detectors

• Context Item: Mid-Scale Research Infrastructure Track 2 Portfolio

Wednesday, February 5, 2020

Committee on Awards and Facilities (A&F)

Open Session: 9:00-10:45 a.m.

• Committee Chair's Remarks

• Approval of Prior Open Minutes

• Calendar Year (CY) 2020 Schedule of Planned Action and Context Items

• Antarctica Site Visit Report

• Written Item: NSB Approval and Oversight Process for Mid-Scale

• Information Item: National Solar Observatory (NSO) Mid-term Review/DKIST Update

• Information Item: Seismological Facility for the Advancement of Geoscience (SAGE) and Geodetic Facility for the Advancement of Geoscience (GAGE)

Committee on External Engagement (EE)

Open Session: 10:45-11:00 a.m.

• Committee Chair's Remarks

• Approval of Prior Open Minutes

• NSB Chair's Report on Congressional Testimony before the House Committee on Science, Space, & Technology

Committee on Strategy (CS)

Open Session: 11:00-11:10 a.m.

• Committee Chair's Remarks

• Approval of Prior Open Minutes

Committee on Strategy (CS)

Closed Session: 11:10-11:45 a.m.

• Committee Chair's Remarks

• Approval of Prior Closed Minutes

• Update on Budgets

Plenary Board

Closed Session: 11:45 a.m.-12:10 p.m.

• NSB Chair's Remarks

• Approval of Prior Closed Minutes

• Director's Remarks

• Written report on personnel situation

• Closed Committee Reports

• National Solar Observatory Mid-term Review

• Vote: High Luminosity Upgrades to the ATLAS and CMS Detectors for the Large Hadron Collider

Plenary Board (Executive)

Closed Session: 12:10-12:30 p.m.

• NSB Chair's Remarks

• Approval of Prior Executive Closed Minutes

• Director's Remarks

• Arctic Research Support and Logistics Services Contract Update

• Waterman Award

• Report by Subcommittee on Honorary Awards

Committee on National Science and Engineering Policy (SEP)

Open Session: 1:30-2:00 p.m.

• Committee Chair's Remarks

• Approval of Prior Open Minutes

• Indicators 2020 Rollout Activities Report

• Update on Indicators 2020 Thematic Report Publication

• Discussion of SEP Spring Retreat Agenda

Task Force on Vision 2030 (Vision TF)

Open Session: 2:00-2:30 p.m.

• Task Force Chair's Remarks

• Approval of Prior Open Minutes

• Update on Vision Project

Committee on Oversight (CO)

Open Session: 2:30-3:00 p.m.

• Committee Chair's Remarks

• Approval of Prior Open Minutes

• Merit Review Digest and Update on Modernization

• Discussion and vote on NSB Preface to Merit Review Digest

• OIG Semiannual Report and Management Response

• Inspector General's Update

• Chief Financial Officer's Update

Plenary Board

Open Session: 3:00-3:30 p.m.

• NSB Chair's Remarks

• Approval of Prior Open Minutes

• Director's Remarks

• Open Committee Reports

• Resolution in Memory of Karen King, Ph.D.

• Vote on NSB Preface to Merit Review Digest

• NSB Chair's Closing Remarks

Meeting Adjourns: 3:30 p.m.

Meetings That Are Open to the Public

Tuesday, February 4, 2020

8:30 a.m.-12:30 p.m. Plenary NSB and PCAST

2:00-3:30 p.m. Plenary

Wednesday, February 5, 2020

9:00-10:45 a.m. A&F

10:45-11:00 a.m. EE

11:00-11:10 a.m. CS

1:30-2:00 p.m. SEP

2:00-2:30 p.m. Vision 2020 TF

2:30-3:00 p.m. CO

3:00-3:30 p.m. Plenary

Meetings That Are Closed to the Public

Tuesday, February 4, 2020

3:30-4:30 p.m. A&F

Wednesday, February 5, 2020

11:10-11:45 a.m. CS

11:45 a.m.-12:10 p.m. Plenary

12:10-12:30 p.m. Plenary Executive

CONTACT PERSON FOR MORE INFORMATION: The NSB Office contact is Brad Gutierrez, bgutierr@nsf.gov, 703-292-7000. The NSB Public Affairs contact is Nadine Lymn, nlymn@nsf.gov, 703-292-2490.

SUPPLEMENTARY INFORMATION: Public meetings and public portions of meetings held in the 2nd floor boardroom will be webcast. To view these meetings, go to: http://www.tvworldwide.com/events/nsf/200204/ and follow the instructions. The public may observe public meetings held in the boardroom. The address is 2415 Eisenhower Avenue, Alexandria, VA 22314.

Please refer to the NSB website for additional information. You will find any updated meeting information and schedule updates (time, place, subject matter, or status of meeting) at https://www.nsf.gov/nsb/meetings/notices.jsp#sunshine.

The NSB provides some flexibility around meeting times held at the NSF headquarters. After the first meeting of each day, actual meeting start and end times will be allowed to vary by no more than 15 minutes in either direction. As an example, if a 10:00 meeting finishes at 10:45, the meeting scheduled to begin at 11:00 may begin at 10:45. Similarly, the 10:00 meeting may be allowed to run over by as much as 15 minutes if the Chair decides the extra time is warranted. The next meeting would start no later than 11:15. Arrive at the NSB boardroom or check the webcast 15 minutes before the scheduled start time of the meeting you wish to observe.

Chris Blair,
Executive Assistant to the National Science Board Office.

[FR Doc. 2020-01911 Filed 1-28-20; 4:15 pm]

BILLING CODE 7555-01-P